SECURITIES AND EXCHANGE COMMISSION

[File No. 500-1]

In the Matter of Chang-On International, Inc., Computer Graphics International Inc., Guanwei Recycling Corp., John D. Oil and Gas Company, Legal Life Plans, Inc., Powder River Coal Corp., Reunion Industries, Inc., ThermoEnergy Corporation; Order of Suspension of Trading

August 9, 2016.

It appears to the Securities and Exchange Commission that there is a lack of current and accurate information concerning the termination of the auditor of Chang-On International, Inc. (China) because it has not filed any periodic reports since the period ended June 30, 2014. Its stock is quoted on OTC Link (previously “Pink Sheets”), operated by OTC Markets Group Inc. (“OTC Link”), under the ticker symbol CAON.

It appears to the Securities and Exchange Commission that there is a lack of current and accurate information concerning the termination of the auditor of Computer Graphics International Inc. (China) because it has not filed any periodic reports since the period ended December 31, 2013. Its stock is quoted on OTC Link under the ticker symbol CGII.

It appears to the Securities and Exchange Commission that there is a lack of current and accurate information concerning the termination of the auditor of Guanwei Recycling Corp. (China) because it has not filed any periodic reports since the period ended March 31, 2014. Its stock is quoted on OTC Link under the ticker symbol GPRC.

It appears to the Securities and Exchange Commission that there is a lack of current and accurate information concerning the termination of the auditor of John D. Oil and Gas Company (Ohio) because it has not filed any periodic reports since the period ended December 31, 2011. Its stock is quoted on OTC Link under the ticker symbol JDOGQ.

It appears to the Securities and Exchange Commission that there is a lack of current and accurate information concerning the termination of the auditor of Legal Life Plans, Inc. (Tennessee) because it has not filed any periodic reports since the period ended August 31, 2013. Its stock is quoted on OTC Link under the ticker symbol LLFP.

It appears to the Securities and Exchange Commission that there is a lack of current and accurate information concerning the termination of the auditor of Powder River Coal Corp. (Wyoming) because it has not filed any periodic reports since the period ended September 30, 2013. Its stock is quoted on OTC Link under the ticker symbol POWD.

It appears to the Securities and Exchange Commission that there is a lack of current and accurate information concerning the termination of the auditor of Reunion Industries, Inc. (Pennsylvania) because it has not filed any periodic reports since the period ended September 30, 2007. Its stock is quoted on OTC Link under the ticker symbol RUNI.

It appears to the Securities and Exchange Commission that there is a lack of current and accurate information concerning the termination of the auditor of ThermoEnergy Corporation (Massachusetts) because it has not filed any periodic reports since the period ended March 31, 2014. Its stock is quoted on OTC Link under the ticker symbol TMEN.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on August 9, 2016, through 11:59 p.m. EDT on August 22, 2016.

By the Commission.
Lynn M. Powalski,
Deputy Secretary.

[FR Doc. 2016-19209 Filed 8-9-16; 4:15 pm]

BILLING CODE 8011-01-P